DEPARTMENT OF THE INTERIOR

Bureau of Indian Affairs

[178A2100DD/AAKC001030/A0A501010.999900]

Draft Programmatic Environmental Impact Statement for the 2015 Integrated Resource Management Plan for the Colville Indian Reservation, Nespelem, Washington

AGENCY: Bureau of Indian Affairs, Interior.

ACTION: Notice of availability.

SUMMARY: This notice advises the public that the Bureau of Indian Affairs (BIA) as lead agency, with the Confederated Tribes of the Colville Reservation (Tribes) and the United States Environmental Protection Agency (EPA) serving as cooperating agencies, has prepared a Draft Programmatic Environmental Impact Statement (DEIS) for the 2015 Colville Reservation Integrated Resource Management Plan (IRMP). This notice announces that the DEIS is now available for public review.

DATES: Any comments on the DEIS must arrive on or before the date 45 days after the EPA publishes a Notice of Availability of the DEIS in the Federal Register.

ADDRESSES: The DEIS is available for public review online at http://www.colvilletribes.com/irmp and in hard copy at the following locations:

• Omak Public Library, 30 S Ash St., Omak, Washington 98841

• Omak Senior Meal Site, 511 E. Benton Street, Omak, Washington 98841

• Nespelem Resource Center, 12 Lakes St., Nespelem, Washington 99155

• Nespelem Senior Meal site, 322 10th Street, Nespelem, Washington 99155

• Keller Resource Center, 11673 S. Hwy 21, Keller, Washington 99140

• Keller Senior Meal Site, 7 Jim James Road, Keller, Washington 99140

• Inchelium Resource Center, 12 Community Center Loop, Inchelium, Washington 99138

• Inchelium Senior Meal Site, 16 Shortcut Road, Inchelium, Washington 99138

You may mail or hand-deliver written comments to Mr. Stanley Speaks, Northwest Regional Director, Bureau of Indian Affairs, 911 Northeast 11th Avenue Portland, Oregon 97232-4169. You may also mail comments to BIA Colville Agency Superintendent Debra Wulff, P.O. Box 111, Nespelem, Washington 99155-0111 or hand deliver to the Superintendent's office at 10 Nez Perce Street, Nespelem, Washington. You can also submit comments by email to: debra.wulff@bia.gov.

FOR FURTHER INFORMATION CONTACT: Ms. Debra Wulff, Superintendent, Bureau of Indian Affairs, Colville Agency, P.O. Box 111, Nespelem, Washington 99155-0111, (509) 634-2316.

SUPPLEMENTARY INFORMATION: The Tribes have prepared an IRMP for the natural and cultural resources of the Colville Reservation. The plan updates the original IRMP that was prepared and implemented in 2000. The IRMP incorporates management goals and objectives for the commercial forest, rangeland and agricultural lands of the Reservation.

The Tribes' forest products industry, livestock grazing, and agriculture have the potential to impact the natural and human environments of the Reservation. The DEIS analyzes the potential impacts associated with these activities. These include impacts to land resources such as geology, minerals, and soils, watershed function, surface and groundwater resources, air quality, biological resources, cultural and paleontological resources, socioeconomic conditions, transportation and forest access roads, land use, public services, noise, aesthetics, recreation, climate change, cumulative effects, and indirect and growth inducing effects.

The DEIS considers five management alternatives developed by the Tribes' IRMP Core Team. The interdisciplinary team developed these management alternatives for consideration and analysis and designated a preferred alternative (Alternative 2) that was approved by the Colville Business Council in June 2014. The team also conducted a community survey in 2014 that asked community members to choose a preferred alternative. All groups were unanimous in selecting Alternative 2 as the preferred alternative. The alternatives are:

1. Continue the Current Management Strategy

2. Enhance and Improve the Current Management Strategy (Preferred Alternative)

3. Concentrate on Forest and Rangeland Health Problems

4. Expand Forest and Livestock Production

5. Eliminate Timber Harvesting and Livestock Grazing

A Notice of Intent (NOI) to prepare an EIS was released in the Federal Register on November 21, 2014. Public scoping meetings were held in four Reservation communities in October 2015 and a Scoping Meetings Report was released in March 2016. An administrative draft DEIS was prepared and reviewed by the IRMP Core Team and appropriate revisions were incorporated along with supplemental information.

Directions for submitting comments: Please include your name, return address, and the caption: “DEIS Comments, Colville Reservation IRMP,” on the first page of your written comments. If emailing comments, please use “DEIS Comments, Colville Reservation IRMP,” as the subject of your email.

Locations where the DEIS is available for review: The DEIS is available for review during regular business hours at the addresses noted above in the ADDRESSES section of this notice. The DEIS is also available online at http://www.colvilletribes.com/irmp.

To obtain a compact disc copy of the DEIS, please provide your name and address in writing or by voicemail to Debra Wulff, Bureau of Indian Affairs, at the address or phone number above in the FOR FURTHER INFORMATION CONTACT section of this notice. Individual paper copies of the DEIS will be provided upon payment of applicable printing expenses by the requestor for the number of copies requested.

Public comment availability: Comments, including names and addresses of respondents, will be available for public review during regular business hours at the BIA mailing address shown in the ADDRESSES section of this notice. Before including your address, telephone number, email address, or other personal identifying information in your comment, you should be aware that your entire comment—including your personal identifying information—may be made publicly available at any time. While you can ask us in your comment to withhold your personal identifying information from public review, we cannot guarantee that we will be able to do so.

Authority: This notice is published pursuant to Sec. 1503.1 of the Council of Environmental Quality Regulations (40 CFR parts 1500 through 1508) and Sec. 46.305 of the Department of the Interior Regulations (43 CFR part 46), implementing the procedural requirements of the NEPA of l969, as amended (42 U.S.C. 4371, et seq.), and is in the exercise of authority delegated to the Assistant Secretary—Indian Affairs by 209 DM 8. This notice is also published in accordance with federal general conformity regulations (40 CFR part 93).

Dated: May 15, 2017.
Michael S. Black,
Acting Assistant Secretary—Indian Affairs.

[FR Doc. 2017-12288 Filed 6-13-17; 8:45 am]

BILLING CODE 4337-15-P